FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 6, 2022.

A. Federal Reserve Bank of Philadelphia (William Spaniel, Senior Vice President) 100 North 6th Street, Philadelphia, Pennsylvania 19105-1521. Comments can also be sent electronically to Comments.applications@phil.frb.org:

1. The Estate of Steven B. Schnall, Sherri Silver Schnall as Preliminary Executor, both of New York, New York; to retain voting shares of Quontic Bank Acquisition Corp., and Quontic Bank Holdings Corp., and thereby indirectly retain voting shares of Quontic Bank, all of New York, New York.

In addition, the Schnall Disclaimer Trust A, Sherri Silver Schnall, individually and as co-trustee, both of New York, New York, with Amie Hoffman, as co-trustee, New Hope, Pennsylvania; the Sherri S. Schnall Family Irrevocable Trust, Amie Hoffman as trustee, both of New Hope, Pennsylvania; to acquire voting shares of Quontic Bank Acquisition Corp., and Quontic Bank Holdings Corp., and thereby indirectly acquire voting shares of Quontic Bank. Accordingly, all notificants in this notice to become a group acting in concert.

Board of Governors of the Federal Reserve System.
Michele Taylor Fennell,
Deputy Associate Secretary of the Board.

[FR Doc. 2022-25351 Filed 11-18-22; 8:45 am]

BILLING CODE P